DEPARTMENT OF AGRICULTURE

Submission for OMB Review; Comment Request

January 23, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), oira_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Food Stamp Nutrition Connection Resource Sharing Form.

OMB Control Number: 0518-0031.

Summary of Collection: The voluntary “Sharing Form” gives Food Stamp nutrition education providers the opportunity to share information about resources that they have developed or used. Data collected using this form helps the Food and Nutrition Information Center (FNIC) identify existing nutrition education and training resources for review and inclusion into the Food Stamp Nutrition Connection's Resource Finder Database. State and local FSNE providers can use this database to identify and acquire existing, available nutrition education materials.

Need and Use of the Information: FSNC staff members will use the collected information by the Resource Sharing Form to build and constantly enhance the online database of nutrition education and training materials known as the Resource Finder Database. FSNE providers access and use the database to identify and obtain curricula, lesson plan, research, training tools and participant materials. The information will be collected using online and printed versions of the form. Failure to collect this information would significantly inhibit FNIC's ability to provide up-to-date information on existing nutrition education materials that are appropriate for FSNE programs and providers.

Description of Respondents: Not-for-profit institutions; Federal Government; State, Local or Tribal Government; Business or other for-profit.

Number of Respondents: 50.

Frequency of Responses: Reporting: On occasion.

Total Burden Hours: 16.

Agricultural Research Service

Title: Evaluation of User Satisfaction with NAL Internet Sites.

OMB Control Number: 0518-0040.

Summary of Collection: There is a need to measure user satisfaction with the National Agricultural Library (NAL) Internet sites in order for NAL to comply with Executive Order 12862, which directs federal agencies that provide significant services directly to the public to survey customers to determine the kind and quality of services they want and their level of satisfaction with existing services. NAL Internet sites are a vast collection of Web pages created and maintained by component organizations of NAL, and are visited by 4.6 million people per month on average. The information generated from this research will enable NAL to evaluate the success of this new modality in response to fulfilling its legislative mandate to disseminate vital agricultural information and truly become the national digital library of agriculture.

Need and Use of the Information: The purpose of the research is to ensure that intended audiences find the information provided on the Internet sites easy to access, clear, informative, and useful. The research will provide a means by which to classify visitors to the NAL Internet sites, to better understand how to serve them. If the information is not collected, NAL will be hindered from advancing its mandate to provide accurate, timely information to its users community.

Description of Respondents: Individuals or households; Business or other for-profit; Not-for-profit institutions; Farms; Federal Government; State, Local or Tribal Government.

Number of Respondents: 12,000.

Frequency of Responses: Reporting: Monthly.

Total Burden Hours: 1,003.

Ruth Brown,
Departmental Information Collection Clearance Officer.

[FR Doc. E8-1468 Filed 1-28-08; 8:45 am]

BILLING CODE 3410-03-P